FEDERAL COMMUNICATIONS COMMISSION

[OMB 3060-1211, 3060-1058, 3060-0798 and 3060-0800]

Information Collections Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written PRA comments should be submitted on or before December 3, 2019. If you anticipate that you will be submitting comments, but find it difficult to do so within the period of time allowed by this notice, you should advise the contact listed below as soon as possible.

ADDRESSES: Direct all PRA comments to Cathy Williams, FCC, via email PRA@fcc.gov and to Cathy.Williams@fcc.gov.

FOR FURTHER INFORMATION CONTACT: For additional information about the information collection, contact Cathy Williams at 202-418-2918.

SUPPLEMENTARY INFORMATION:

OMB Control Number: 3060-1211.

Title: Sections 96.17; 96.21; 96.23; 96.25; 96.33; 96.35; 96.39; 96.41; 96.43; 96.45; 96.51; 96.57; 96.59; 96.61; 96.63; 96.67, Commercial Operations in the 3550-3700 MHz Band.

Form Number: N/A.

Type of Review: Revision of a currently approved collection.

Respondents: Business or other for-profit entities, not for profit institutions, and state, local, or tribal government.

Number of Respondents: 110,782 respondents; 226,099 responses.

Estimated Time per Response: 0.25 to 1.5 hours.

Frequency of Response: Ten-year reporting requirement, One-time and on occasion reporting requirements; other reporting requirements—as-needed basis for equipment safety certification that is no longer in use, and consistently (likely daily) responses automated via the device.

Obligation to Respond: Required to obtain or retain benefits. Statutory authority for this collection is contained in 47 U.S.C. 151, 152, 154(i), 154(j), 155(c), 302a, 303, 304, 307(e), and 316 of the Communications Act of 1934.

Total Annual Burden: 64,561 hours.

Total Annual Cost: $13,213,975.

Privacy Impact Assessment: No impact(s).

Nature and Extent of Confidentiality: In general, there is no need for confidentiality with this collection of information.

Needs and Uses: On October 24, 2018, the Commission released a Report and Order, FCC 18-149, in GN Docket No. 17-158, adopting limited changes to the rules governing Priority Access Licenses (PALs) in the 3550-3700 MHz (3.5 GHz) band, including larger license areas, longer license terms, renewability, and performance requirements. The Commission anticipated that the targeted changes made in its 2018 Report and Order will spur additional investment and broader deployment in the band, promote robust and efficient spectrum use, and help ensure the rapid deployment of advanced wireless technologies—including 5G—in the United States.

The rule changes and information requirements contained in the Commission's previous 3.5 GHz band orders—the 2015 Report and Order, FCC 15-47, and 2016 Order on Reconsideration and Second Report and Order, FCC 16-55, both in GN Docket No. 12-354—are also approved under this Office of Management and Budget (OMB) control number (3060-1211) and have not changed since OMB last approved them.

The Commission seeks approval from OMB for the information collection requirements contained in the 2018 Report and Order, FCC 18-149, stemming from the changes made to section 96.25(b) of it rules. The Commission revised section 96.25(b) to adopt performance requirements for Priority Access Licensees. Specifically, under the revised rule, Priority Access Licensees must provide substantial service in their license area by the end of the initial license term, i.e., at the end of 10 years. “Substantial service” is defined as service which is sound, favorable, and substantially above the level of mediocre service which might minimally warrant renewal. Failure by any licensee to meet this requirement will result in forfeiture of the license without further Commission action, and the licensee will be ineligible to regain it. Licensees shall demonstrate compliance with the performance requirement by filing a construction notification with the Commission in accordance with section 1.946(d) of the Commission's rules. The licensee must certify whether it has met the performance requirement, and file supporting documentation, including description and demonstration of the bona fide service provided, electronic maps accurately depicting the boundaries of the license area and where in the license area the licensee provides service that meets the performance requirement, supporting technical documentation, any population-related assumptions or data used in determining the population covered by a service to the extent any were relied upon, and any other information the Wireless Telecommunications Bureau may prescribe by public notice. A licensee's showing of substantial service may not rely on service coverage outside of the PAL Protection Areas of registered Citizens Broadband Radio Service Devices (CBSDs) or on deployments that are not reflected in Spectrum Access System (SAS) records of CBSD registrations.

The Commission adopted two safe harbors for meeting the “substantial service” requirement:

(1) A Priority Access Licensee providing a mobile service or point-to-multipoint service may demonstrate substantial service by showing that it provides signal coverage and offers service, either to customers or for internal use, over at least 50 percent of the population in the license area; and (2) A Priority Access Licensee providing a fixed point-to-point service may demonstrate substantial service by showing that it has constructed and operates at least four links, either to customers or for internal use, in license areas with 134,000 population or less and in license areas with greater population, a minimum number of links equal to the population of the license area divided by 33,500 and rounded up to the nearest whole number. To satisfy this provision, such links must operate using registered Category B CBSDs.

OMB Control Number: 3060-1058.

Title: FCC Application or Notification for Spectrum Leasing Arrangement or Private Commons Arrangement: Wireless Telecommunications Bureau Public Safety and Homeland Security Bureau.

Form Number: FCC Form 608.

Type of Review: Revision of a currently approved collection.

Respondents: Business or other for-profit entities, not for profit institutions, individuals or households, and state, local, or tribal government.

Number of Respondents: 1,091 respondents; 1,091 responses.

Estimated Time per Response: 0.5 to 1 hour.

Frequency of Response: Recordkeeping requirement, third party disclosure requirement, on occasion reporting requirement and periodic reporting requirement.

Obligation to Respond: Required to obtain or retain benefits. Statutory authority for this collection is contained in 47 U.S.C. 154, 155, 158, 161, 301, 303(r), 308, 309, 310 and 332 of the Communications Act of 1934.

Total Annual Burden: 1,096 hours.

Total Annual Cost: $1,411,450.

Privacy Impact Assessment: Yes.

Nature and Extent of Confidentiality: In general, there is no need for confidentiality with this collection of information.

Needs and Uses: FCC Form 608 is a multipurpose form. It is used to provide notification or request approval for any spectrum leasing arrangement (“Leases”) entered into between an existing licensee (“Licensee”) in certain wireless services and a spectrum lessee (“Lessee”). This form also is required to notify or request approval for any spectrum subleasing arrangement (“Sublease”). The data collected on the form is used by the FCC to determine whether the public interest would be served by the Lease or Sublease. The form is also used to provide notification for any Private Commons Arrangement entered into between a Licensee, Lessee, or Sublessee and a class of third-party users (as defined in Section 1.9080 of the Commission's Rules). Respondents are required to submit FCC Form 608 electronically, except in certain services specifically designated by the Commission.

Records may include information about individuals or households, e.g., personally identifiable information or PII, and the use(s) and disclosure of this information will be governed by the requirements of a system of records notice or `SORN', FCC/WTB-1, “Wireless Services Licensing Records.” Updating the SORN to include FCC Form 608 is currently underway. There are no additional impacts under the Privacy Act.

On April 28, 2016, the Commission adopted its Second Report and Order, FCC 16-55, in GN Docket No. 12-354, adopting additional rules for the Citizens Broadband Radio Service in the 3.5 GHz band. As part of the Second Report and Order, the Commission adopted a light-touch leasing regime for Priority Access Licensees by amending its existing Part 1 rules to include a streamlined spectrum manager leasing process, based on the current spectrum manager leasing rules, tailored for the PAL leasing context. The Commission expects there will be a demand for Priority Access rights for a wide variety of use cases, and that a robust, flexible, and lightly regulated secondary market through these band-specific spectrum manager leasing rules will incentivize efficient spectrum use, promote innovation, and encourage the rapid deployment of broadband networks in the 3.5 GHz Band. Specifically, in the Second Report and Order, the Commission adopted section 1.9046, which provides special provisions for spectrum manager leases in the Citizens Broadband Radio Service. This rule allows a Priority Access Licensee to engage in spectrum manager leasing for any portion of its spectrum or geographic area, outside of the PAL Protection Area, for any bandwidth or duration period of time with any entity that has provided a certification to the Commission in accordance with section 1.9046 or pursuant to the general notification procedures of section 1.9020(e) of the Commission's rules. The lessee seeking to engage in spectrum manager leasing pursuant to section 1.9046 must certify with the Commission that it meets the same eligibility and qualification requirements applicable to the licensee before entering into a spectrum manger leasing arrangement with a Priority Access Licensee. The certification will be made via FCC Form 608.

Prior to lessee operation, the licensee seeking to engage in spectrum manager leasing pursuant to section 1.9046 must submit notification of the leasing arrangement to the Spectrum Access System (SAS) Administrator with the following information: (1) Lessee contact information including name, address, telephone number, fax number, email address; (2) Lessee FCC Registration Number (FRN); (3) name of Real Party in Interest and related FCC Registration Number (FRN); (4) the specific spectrum leased (in terms of amount of bandwidth and geographic area involved) including the call sign(s) affected by the lease; and (5) duration of the lease.

A spectrum leasing arrangement may be extended beyond the initial term set forth in the spectrum leasing notification for an additional period not to exceed the term of the Priority Access License, provided that the licensee notifies the SAS Administrator of the extension in advance of operation under the extended term and does so pursuant to the notification procedures in section 1.9046.

If a spectrum leasing arrangement is terminated earlier than the termination date set forth in the notification, either by the licensee or by the parties' mutual agreement, the licensee must file a notification with the SAS Administrator no later than ten (10) days after the early termination, indicating the date of the termination.

If the parties fail to put the spectrum leasing arrangement into effect, they must so notify the Spectrum Access System Administrator as promptly as practicable.

Under the Part 96 rules, three types of respondents may be completing FCC Form 608. First, entities seeking to engage in light touch leasing will pre-certify with the FCC that they meet the non-lease-specific eligibility and qualification criteria by completing non-lease-specific data fields pulled from FCC Form 608. Second, the Priority Access Licensees would use the form in three ways. For light touch leasing, Priority Access Licensees would notify the SAS Administrator of leasing arrangements with pre-certified lessees by completing lease-specific data fields pulled from FCC Form 608. Part 96 also permits Priority Access Licensees to enter into lease agreements using the general spectrum manager leasing agreement rules under part 1 of the rules, which would require a FCC Form 608. Priority Access Licensees may also enter into de facto transfer leasing arrangements for a portion of their licensed spectrum pursuant to part 1 of the Commission's rules and would use FCC Form 608 to do so. Third, on a daily basis, the SAS Administrator will provide the Commission with an electronic report of the leasing notifications completed by the Priority Access Licensees. The SAS Administrators will be providing the report through an Application Programming Interface (API). The Commission has reused the code from the general spectrum manager leasing FCC Form 608 in the Commission's Universal Licensing System (ULS) to program the SAS light touch leasing API.

OMB Control Number: 3060-0798.

Title: FCC Application for Radio Service Authorization; Wireless Telecommunications Bureau; Public Safety and Homeland Security Bureau.

Form Number: FCC Form 601.

Type of Review: Revision of a currently approved collection.

Respondents: Business or other for-profit entities, not for profit institutions, individuals and households, and state, local, or tribal government.

Number of Respondents: 255,452 respondents; 255,452 responses.

Estimated Time per Response: 0.5 to 1.25 hours.

Frequency of Response: Recordkeeping requirement, third party disclosure requirement, on occasion reporting requirement and periodic reporting requirement.

Obligation to Respond: Required to obtain or retain benefits. Statutory authority for this collection is contained in 47 U.S.C. 151, 152, 154, 154(i), 155(c), 157, 201, 202, 208, 214, 301, 302a, 303, 307, 308, 309, 310, 311, 314, 316, 319, 324, 331, 332, 333, 336, 534, 535 and 554.

Total Annual Burden: 223,921 hours.

Total Annual Cost: $71,906,000.

Privacy Impact Assessment: Yes.

Nature and Extent of Confidentiality: In general, there is no need for confidentiality with this collection of information.

Needs and Uses: FCC Form 601 is a consolidated, multi-part application form that is used for market-based and site-based licensing for wireless telecommunications services, including public safety licenses, which are filed through the Commission's Universal Licensing System (ULS). FCC Form 601 is composed of a main form that contains administrative information and a series of schedules used for filing technical and other information. This form is used to apply for a new license, to amend or withdraw a pending application, to modify or renew an existing license, cancel a license, request a duplicate license, submit required notifications, request an extension of time to satisfy construction requirements, or request an administrative update to an existing license (such as mailing address change), request a Special Temporary Authority or Developmental License. Respondents are required to submit FCC Form 601 electronically, except in certain services specifically designated by the Commission.

The data collected on FCC Form 601 includes the FCC Registration Number (FRN), which serves as a “common link” for all filings an entity has with the FCC. The Debt Collection Improvement Act of 1996 requires entities filing with the Commission to use an FRN. Records may include information about individuals or households, e.g., personally identifiable information or PII, and the use(s) and disclosure of this information are governed by the requirements of a system of records notice or `SORN', FCC/WTB-1, “Wireless Services Licensing Records.” There are no additional impacts under the Privacy Act.

On October 24, 2018, the Commission released a Report and Order, FCC 18-149, in GN Docket No. 17-158, adopting limited changes to the rules governing Priority Access Licenses (PALs) in the 3550-3700 MHz (3.5 GHz) band, including larger license areas, longer license terms, renewability, and performance requirements. The Commission anticipated that the targeted changes made in its 2018 Report and Order will spur additional investment and broader deployment in the band, promote robust and efficient spectrum use, and help ensure the rapid deployment of advanced wireless technologies—including 5G—in the United States. Among these changes, the Commission revised section 96.32(a) of its rules to require that an applicant must file an application for an initial PAL, and that the application must: (1) Demonstrate the applicant's qualifications to hold an authorization; (2) state how a grant would serve the public interest, convenience, and necessity; (3) contain all information required by FCC rules and application forms; (4) propose operation of a facility or facilities in compliance with all rules governing the Citizens Broadband Radio Service; and (5) be amended as necessary to remain substantially accurate and complete in all significant respects, in accordance with the provisions of section 1.65 of the Commission's rules.

The Commission therefore seeks approval for a revision to its currently approved information collection on FCC Form 601.

OMB Control Number: 3060-0800.

Title: FCC Application For Assignment of Authorization and Transfers of Control: Wireless Telecommunications Bureau and Public Safety and Homeland Security Bureau.

Form Number: FCC Form 603.

Type of Review: Revision of a currently approved collection.

Respondents: Business or other for-profit entities, not for profit institutions, individuals and households, and state, local, or tribal government.

Number of Respondents: 2,547 respondents; 2,547 responses.

Estimated Time per Response: 0.5 to 1.75 hours.

Frequency of Response: Recordkeeping requirement, on occasion reporting requirement, and periodic reporting requirement.

Obligation to Respond: Required to obtain or retain benefits. Statutory authority for this collection is contained in 47 U.S.C. 154, 155, 158, 161, 301, 303(r), 308, 309, 310, and 332.

Total Annual Burden: 2,872 hours.

Total Annual Cost: $381,975.

Privacy Impact Assessment: Yes.

Nature and Extent of Confidentiality: In general, there is no need for confidentiality with this collection of information.

Needs and Uses: FCC Form 603 is a multi-purpose form that is used by radio services in Wireless Services within the Universal Licensing System (ULS). FCC 603 is composed of a main form that contains the administrative information and a series of schedules. These schedules are required when applying for Auctioned Services, Partitioning and Disaggregation, Undefined Geographical Area Partitioning, and Notification of Consummation or Request for Extension of Time for Consummation. Applicants/licensees in the Public Mobile Services, Personal Communications Services, Private Land Mobile Radio Services, Broadband Radio Service, Educational Broadband Service, Maritime Services (excluding Ship), and Aviation Services (excluding Aircraft) use FCC Form 603 to apply for an assignment or transfer, to establish their parties' basic eligibility and qualifications, to classify the filing, and/or to determine the nature of the proposed service. This form is also used to notify the FCC of consummated assignments and transfers of wireless licenses to which the Commission has previously consented or for which notification but not prior consent is required. Respondents are required to submit FCC Form 603 electronically, except in certain services specifically designated by the Commission.

The data collected on FCC Form 603 include the FCC Registration Number (FRN), which serves as a “common link” for all filings an entity has with the FCC. The Debt Collection Improvement Act of 1996 required that those filing with the Commission to use an FRN, effective December 3, 2001.

Records may include information about individuals or households, e.g., personally identifiable information or PII, and the use(s) and disclosure of this information are governed by the requirements of a system of records notice or `SORN', FCC/WTB-1, “Wireless Services Licensing Records.” There are no additional impacts under the Privacy Act.

On October 24, 2018, the Commission released a Report and Order, FCC 18-149, in GN Docket No. 17-158, adopting limited changes to the rules governing Priority Access Licenses (PALs) in the 3550-3700 MHz (3.5 GHz) band, including larger license areas, longer license terms, renewability, and performance requirements. The Commission anticipated that the targeted changes made in its 2018 Report and Order will spur additional investment and broader deployment in the band, promote robust and efficient spectrum use, and help ensure the rapid deployment of advanced wireless technologies—including 5G—in the United States. The Commission seeks approval for revisions to its currently approved collection of information under OMB Control Number 3060-0800 to permit the collection of the additional information in connection with partial assignments of authorizations for geographic partitioning, spectrum disaggregation, or a combination of both, pursuant to the rules and information collection requirements adopted by the Commission 2018 Report and Order. Specifically, in the 2018 Report and Order, the Commission revised section 96.32(b) of its rules to allow Priority Access Licensees to partition their licenses or disaggregate their spectrum, and partially assign or transfer their licenses, pursuant to § 1.950 of the Commission's rules. Because of the additional Priority Access Licensees, additional respondents may be filing FCC Form 603 for assignments or transfers of control of licenses.

Federal Communications Commission.
Marlene Dortch,
Secretary, Office of the Secretary.

[FR Doc. 2019-21569 Filed 10-3-19; 8:45 am]

BILLING CODE 6712-01-P